FEDERAL COMMUNICATIONS COMMISSION

[FR ID: 243491]

Privacy Act of 1974; System of Records

AGENCY: Federal Communications Commission.

ACTION: Rescindment of a system of records notice.

SUMMARY: Pursuant to the Privacy Act of 1974 and Office of Management and Budget (OMB) Circular No. A-108, the Federal Communications Commission (FCC) proposes to rescind the FCC/WCB-5, Robocall Mitigation Database, system of records. The FCC previously used information in this system to collect and maintain information provided by individual representatives of voice service providers who were certifying the service providers' implementation of the STIR/SHAKEN caller ID authentication framework and/or a robocall mitigation program.

DATES: The rescindment will become effective 30 days after publication.

ADDRESSES: Comments can be submitted to Privacy@fcc.gov.

FOR FURTHER INFORMATION CONTACT: For further information please contact Brendan McTaggart at 202-418-1738 or Privacy@fcc.gov.

SUPPLEMENTARY INFORMATION: The Privacy Act provides that an agency may collect or maintain in its records only information about individuals that is relevant and necessary to accomplish a purpose that is required by a statute or executive order. The FCC has determined that this system no longer meets this standard, because the only type of personally identifiable information currently being collected and maintained in this system is business contact information, and a more recent system of records—FCC-2, Business Contacts and Certifications—was developed to maintain this type of business contact information across the agency (i.e., wholly including all of the information maintained in the Robocall Mitigation Database). Therefore, the FCC proposes to rescind FCC/WCB-5 and manage the records it contains under FCC-2 in accordance with the requirements in the SORN and the applicable records retention or disposition schedule approved by the National Archives and Records Administration.

SYSTEM NAME AND NUMBER:

FCC/WCB-5, Robocall Mitigation Database.

HISTORY:

86 FR 26916 (March 18, 2021).

Marlene Dortch,
Secretary.

[FR Doc. 2024-20573 Filed 9-10-24; 8:45 am]

BILLING CODE 6712-01-P